DEPARTMENT OF COMMERCE

International Trade Administration

[A-351-832]

Carbon and Certain Alloy Steel Wire Rod From Brazil: Notice of Extension of the Time Limit for the Preliminary Results of Antidumping Duty Administrative Review

AGENCY: Import Administration, International Trade Administration, Department of Commerce.

ACTION: Notice of extension of the time limit for the preliminary results of antidumping duty administrative review.

EFFECTIVE DATE: June 2, 2004.

FOR FURTHER INFORMATION CONTACT: Carol Henninger or Constance Handley at (202) 482-3003 or (202) 482-0631, respectively; Office of AD/CVD Enforcement 5, Import Administration, International Trade Administration, U.S. Department of Commerce, 14th Street and Constitution Avenue, NW, Washington, DC 20230.

Time Limits

Statutory Time Limits

Section 751(a)(3)(A) of the Tariff Act of 1930, as amended (the Act), requires the Department of Commerce (the Department) to complete the preliminary results of an administrative review within 245 days after the last day of the anniversary month of an order/finding for which a review is requested and the final results within 120 days after the date on which the preliminary results are published. However, if it is not practicable to complete the review within these time periods, section 751(a)(3)(A) of the Act allows the Department to extend the time limit for the preliminary results to a maximum of 365 days after the last day of the anniversary month of an order/finding for which a review is requested, and for the final results to 180 days (or 300 days if the Department does not extend the time limit for the preliminary results) from the date of publication of the preliminary results.

Background

Companhia Siderúrgica Belgo Mineira, Belgo Mineira Participação Indústria e Comércio S.A. and BMP Siderúrgica S.A. (collectively, Belgo), a Brazilian producer of subject merchandise, requested an administrative review of the antidumping duty order on carbon and certain alloy steel wire rod from Brazil on October 31, 2003. On November 28, 2003, the Department published a notice of initiation of the administrative review, covering the period April 15, 2002, through September 30, 2003, (Initiation of Antidumping and Countervailing Duty Administrative Reviews, 68 FR 66799). The preliminary results are currently due no later than July 2, 2004.

Extension of Time Limit for Preliminary Results of Review

We determine that it is not practicable to complete the preliminary results of this review within the original time limit due to the complex issues that have been raised. Specifically, the Department is conducting a scope inquiry in conjunction with this review concerning exclusion language applicable to grade 1080 tire cord and tire bead quality wire rod. Therefore, the Department is extending the time limit for completion of the preliminary results until no later than November 1, 2004. We intend to issue the final results no later than 120 days after publication of the preliminary results notice.

This extension is in accordance with section 751(a)(3)(A) of the Act.

Dated: May 26, 2004.
Jeffrey May,
Deputy Assistant Secretary for Import Administration.

[FR Doc. 04-12427 Filed 6-1-04; 8:45 am]

BILLING CODE 3510-DS-P